FEDERAL COMMUNICATIONS COMMISSION

47 CFR Part 73

[MB Docket No. 18-320; RM-11817; DA 18-1070]

Television Broadcasting Services; Morehead and Richmond, Kentucky

AGENCY: Federal Communications Commission.

ACTION: Proposed rule.

SUMMARY: At the request of ION Media Lexington License, Inc. (ION), licensee of television station WUPX-TV, channel 21, Morehead, Kentucky (WUPX), the Commission is proposing to amend the DTV Table of Allotments to change WUPX's community of license from Morehead to Richmond, Kentucky. ION asserts that the proposed reallotment is consistent with the Commission's second allotment priority by providing Richmond with its first local transmission service. ION also asserts that the proposed reallotment will not deprive Morehead of its sole broadcast station because it will continue to be served by station WKMR(TV), licensed to Kentucky Authority for Educational TV, on channel *15 at Morehead. ION is not currently proposing to change WUPX's licensed facilities as part of its proposed reallotment.

DATES: Comments must be filed on or before November 26, 2018 and reply comments on or before December 4, 2018.

ADDRESSES: Federal Communications Commission, Office of the Secretary, 445 12th Street SW, Washington, DC 20554. In addition to filing comments with the FCC, interested parties should serve counsel for petitioner as follows: ION Media Networks, Inc., c/o Terri McGalliard, 601 Clearwater Park Road, West Palm Beach, Florida 33401.

FOR FURTHER INFORMATION CONTACT: Darren Fernandez, Media Bureau, at Darren.Fernandez@fcc.gov; or Joyce Bernstein, Media Bureau, at Joyce.Bernstein@fcc.gov.

SUPPLEMENTARY INFORMATION: This is a synopsis of the Commission's Notice of Proposed Rulemaking, MB Docket No. 18-320; RM-11817; DA 18-1070, adopted October 18, 2018, and released October 18, 2018. Pursuant to section 1.420(i) of the Commission's rules, 47 CFR 1.420(i). The full text of this document is available for public inspection and copying during normal business hours in the FCC's Reference Information Center at Portals II, CY-A257, 445 12th Street SW, Washington, DC 20554, or online at http://apps.fcc.gov/ecfs/. To request materials in accessible formats (braille, large print, computer diskettes, or audio recordings), please send an email to FCC504@fcc.gov or call the Consumer & Government Affairs Bureau at (202) 418-0530 (VOICE), (202) 418-0432 (TTY).

This document does not contain information collection requirements subject to the Paperwork Reduction Act of 1995, Public Law 104-13. In addition, therefore, it does not contain any proposed information collection burden “for small business concerns with fewer than 25 employees,” pursuant to the Small Business Paperwork Relief Act of 2002, Public Law 107-198, see 44 U.S.C. 3506(c)(4). Provisions of the Regulatory Flexibility Act of 1980, 5 U.S.C. 601-612, do not apply to this proceeding.

Members of the public should note that all ex parte contacts are prohibited from the time a Notice of Proposed Rulemaking is issued to the time the matter is no longer subject to Commission consideration or court review, see 47 CFR 1.1208. There are, however, exceptions to this prohibition, which can be found in §§ 1.1204(a) of the Commission's rules, 47 CFR 1.1204(a).

See §§ 1.415 and 1.420 of the Commission's rules for information regarding the proper filing procedures for comments, 47 CFR 1.415 and 1.420.

List of Subjects in 47 CFR Part 73

Television.

Federal Communications Commission.
Barbara Kreisman,
Chief, Video Division, Media Bureau.

Proposed Rule

For the reasons discussed in the preamble, the Federal Communications Commission proposes to amend 47 CFR part 73 as follows:

PART 73—RADIO BROADCAST SERVICE

1. The authority citation for part 73 continues to read as follows:

Authority: 47 U.S.C. 154, 303, 334, 336, and 339.

§ 73.622 [Amended]

2. Amend § 73.622(i), the Post-Transition Table of DTV Allotments under Kentucky, by removing in the entry for Morehead, channel 21, and adding, in alphabetical order an entry for Richmond, channel 21.

[FR Doc. 2018-24345 Filed 11-8-18; 8:45 am]

BILLING CODE 6712-01-P